CIVIL RIGHTS COMMISSION

Sunshine Act Meeting

AGENCY: United States Commission on Civil Rights.

ACTION: Notice of Commission public business meeting.

DATES: Friday June 5, 2020, 10:00 a.m. ET.

ADDRESSES: Meeting to take place by telephone and open to the public by telephone: 1-888-601-3862, Conference ID 992-9363. Computer assisted real-time transcription (CART) will be provided. The web link to access CART (in English) on Friday, June 5, 2020, is https://www.streamtext.net/player?event=USCCR. Please note that CART is text-only translation that occurs in real time during the meeting and is not an exact transcript.

FOR FURTHER INFORMATION CONTACT: Zakee Martin: (202) 376-7700; publicaffairs@usccr.gov.

Meeting Agenda

I. Approval of Agenda

II. Business Meeting

A. Presentation by Alexandra Korry, Chair of New York Advisory Committee on the Committee's report, Education Equity in New York: A Forgotten Dream.

B. Discussion and vote on Commission Advisory Committees

• Chair of North Carolina Advisory Committee

• Chair of Maine Advisory Committee

• New York Advisory Committee

• Washington Advisory Committee

C. Discussion and vote on project planning materials in support of Commission short-term projects on civil rights impacts of the COVID-19 pandemic

D. Discussion and vote on Administrative Instruction 5-7, Advisory Committee Meetings and Reports

E. Update from Staff Director on virtual briefing

F. Management and Operations

• Staff Director's Report

III. Adjourn Meeting

Dated: May 26, 2020.
David Mussatt,
Supervisory Chief, Regional Programs Unit.

[FR Doc. 2020-11663 Filed 5-27-20; 11:15 am]

BILLING CODE P